DEPARTMENT OF AGRICULTURE

Rural Housing Service

7 CFR Part 1944

Updating of Designated Counties for Housing Application Packaging Grants

AGENCY: Rural Housing Service, USDA.

ACTION: Final rule.

SUMMARY: The Rural Housing Service (RHS) is amending its regulations to update the list of designated counties for Housing Application Packaging Grants (HAPG). Under section 509 of the Housing Act of 1949, grants are provided to package housing applications for loans under sections 502, 504, 514, 515, and 524 and grants under section 533 in colonias and designated underserved counties. The intended effect is to make eligible applicants, including public and private nonprofit organizations and State and local governments, aware of the new list of designated counties, which was based on the 2000 census data.

EFFECTIVE DATE: May 25, 2005.

FOR FURTHER INFORMATION CONTACT: Gloria L. Denson, Senior Loan Specialist, Single Family Housing Direct Loan Division, RHS, U.S. Department of Agriculture, STOP 0783, South Building, Washington, DC 20250-0783, Telephone 202-720-1474. (This is not a toll free number.)

SUPPLEMENTARY INFORMATION:

Classification

This action is not subject to the provisions of Executive Order 12866 since it involves only internal Agency management. This action is not published for prior notice and comment under the Administrative Procedure Act since it involves only internal Agency management and publication for comment is unnecessary and contrary to the public interest.

Programs Affected

The Catalog of Federal Domestic Assistance number for the programs impacted by this action is 10.442—Housing Application Packaging Grants.

Paperwork Reduction Act

This final rule does not revise or impose any new information collection requirements from those previously approved by the Office of Management and Budget.

Unfunded Mandates Reform Act

Title II of the Unfunded Mandates Reform Act of 1995 (UMRA), Public Law 104-4, establishes requirements for Federal agencies to assess the effects of their regulatory actions on State, local and tribal governments, and the private sector. Under section 202 of the UMRA, the agency generally must prepare a written statement, including a cost benefit analysis, for proposed and final rules with “Final mandates” that may result in expenditures to State, local, or tribal governments, in the aggregate, or to the private sector, of $100 million or more in any one year.When such a statement is needed for a rule, section 205 of the UMRA generally requires the agency to identify and consider a reasonable number of regulatory alternatives and adopt the least burdensome alternative that achieves the objectives of the rule.

This rule contains no Federal mandates (under the regulatory provisions of Title II of the UMRA) for State, local and tribal governments, or the private sector. Thus, today's rule is not subject to the requirements of sections 202 and 205 of the UMRA.

Environment Impact Statement

This action has been reviewed in accordance with 7 CFR part 1940, subpart G, “Environmental Program.” The Agency has determined that this action does not constitute a major Federal action significantly affecting the quality of the human environment and in accordance with the National Environmental Policy Act of 1969, Public Law 91-190, an Environmental Impact Statement is not required.

Discussion

Based on the 2000 U.S. Census data and applicable criteria for 7 CFR part 1944, subpart B, twenty-four States have designated counties eligible for HAPG funds. This list must be used for any grants processed in Fiscal Year 2005, and until receipt of the 2010 U.S. Census data. Exhibit D of 7 CFR part 1944, subpart B is revised to update this information. To apply for assistance under this program or for more information, contact the Rural Development Office for your area or the individual shown in the FOR MORE INFORMATION CONTACT section of the preamble this notice.

Seven States have been completely removed from the original twenty-nine listed in Exhibit D (Kentucky, North Carolina, Ohio, South Carolina, Tennessee, Virginia and West Virginia) and one State (Nebraska) has been added. In addition, some of the designated counties are no longer eligible and have been removed and new ones have been added. Therefore, Exhibit D of 7 CFR part 1944, subpart B is revised to list the current designated counties.

List of Subjects in 7 CFR Part 1944

Administrative practice and procedure, Grant programs—Housing and community development, Loan programs—Housing and community development, Migrant labor, Nonprofit organizations, Reporting requirements, Rural areas.

Accordingly, Chapter XVIII, title 7, Code of Federal Regulations is amended as follows:

PART 1944—HOUSING

1. This authority citation for part 1944 continues to read as follows:

Authority: 5 U.S.C. 301; 7 U.S.C. 301; 42 U.S.C. 1480.

Subpart B—Housing Application Packaging Grants

2. Exhibit D of subpart B is revised to read as follows:

BILLING CODE 3410-XV-P

Dated: May 5, 2005.
Russell T. Davis,
Administrator, Rural Housing Service.

[FR Doc. 05-10466 Filed 5-24-05; 8:45 am]

BILLING CODE 3410-XV-P